DEPARTMENT OF ENERGY

Federal Energy Regulatory Commission

Combined Notice of Filings

Take notice that the Commission has received the following Natural Gas Pipeline Rate and Refund Report filings:

Filings Instituting Proceedings

Docket Numbers: RP11-2573-000.

Applicants: Iroquois Gas Transmission System, L.P.

Description: Iroquois Gas Transmission System, L.P. submits tariff filing per 154.204: 09/21/11 Negotiated Rates—Citigroup Energy Inc. to be effective 11/1/2011.

Filed Date: 09/21/2011.

Accession Number: 20110921-5067.

Comment Date: 5 p.m. Eastern Time on Monday, October 03, 2011.

Docket Numbers: RP11-2574-000.

Applicants: Sabine Pipe Line LLC.

Description: Sabine Pipe Line LLC submits tariff filing per 154.204: Revised Imbalance Language to be effective 10/1/2011.

Filed Date: 09/21/2011.

Accession Number: 20110921-5090.

Comment Date: 5 p.m. Eastern Time on Monday, October 03, 2011.

Docket Numbers: RP11-2575-000.

Applicants: Monroe Gas Storage Company, LLC.

Description: Monroe Gas Storage Company, LLC submits tariff filing per 154.204: Monroe Gas Storage Tariff Revised 9.2.11 to be effective 9/21/2011.

Filed Date: 09/21/2011.

Accession Number: 20110921-5095.

Comment Date: 5 p.m. Eastern Time on Monday, October 03, 2011.

Docket Numbers: RP11-2576-000.

Applicants: Transwestern Pipeline Company, LLC.

Description: Petition of Transwestern Pipeline Company, LLC for Approval of Stipulation and Agreement of Settlement and Request for Expedited Action.

Filed Date: 09/21/2011.

Accession Number: 20110921-5124.

Comment Date: 5 p.m. Eastern Time on Monday, October 03, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 22, 2011.
Nathaniel J. Davis, Sr.,
Deputy Secretary.

[FR Doc. 2011-24883 Filed 9-27-11; 8:45 am]

BILLING CODE 6717-01-P